DEPARTMENT OF COMMERCE

National Oceanic and Atmospheric Administration

50 CFR Part 660

[RTID 0648-XD481]

Fisheries Off West Coast States; Coastal Pelagic Species Fisheries; Amendment 21 to the Coastal Pelagic Species Fishery Management Plan

AGENCY: National Marine Fisheries Service (NMFS), National Oceanic and Atmospheric Administration (NOAA), Commerce.

ACTION: Notice of agency decision of an amendment to a fishery management plan.

SUMMARY: On May 20, 2024, the Regional Administrator of NMFS West Coast Region, with the concurrence of the Assistant Administrator for NMFS, approved amendment 21 to the Coastal Pelagic Species Fishery Management Plan (CPS FMP). Amendment 21 implements a number of non-substantive, administrative changes to the CPS FMP including defining acronyms upon first use, adding hyperlinks, removing repetitive language, and rearranging sections for clarity and logical sequence. These changes, colloquially referred to as “housekeeping” changes, do not change the management of the fishery. This amendment is intended to promote the goals and objectives of the Magnuson-Stevens Fishery Conservation and Management Act, the CPS FMP, and other applicable laws.

DATES: Amendment 21 was approved on May 20, 2024.

FOR FURTHER INFORMATION CONTACT: Taylor Debevec, Sustainable Fisheries Division, NMFS, (562) 980-4066, taylor.debevec@noaa.gov or Jessi Doerpinghaus, Staff Officer, Pacific Fishery Management Council, (503) 820-2415, jessi.doerpinghaus@noaa.gov.

SUPPLEMENTARY INFORMATION: The CPS fishery in the U.S. exclusive economic zone off the West Coast is managed under the CPS FMP. The Pacific Fishery Management Council (Council) developed the CPS FMP pursuant to the Magnuson-Stevens Fishery Conservation and Management Act (Magnuson-Stevens Act, 16 U.S.C. 1801 et seq.). The Secretary of Commerce approved the CPS FMP and implemented the provisions of the plan through regulations at 50 CFR part 660, subpart I. Species managed under the CPS FMP include Pacific sardine, Pacific mackerel, jack mackerel, northern anchovy, market squid, and krill.

The Magnuson-Stevens Act requires each regional fishery management council to submit any amendment to an FMP to NMFS for review and approval, disapproval, or partial approval. The Magnuson-Stevens Act also requires that NMFS, upon receiving an amendment to an FMP, immediately publish notification in the Federal Register that the amendment is available for public review and comment. NMFS published a notice of availability (NOA) of amendment 21 on February 20, 2024 (89 FR 12810) with a comment period ending on April 22, 2024. NMFS received no public comments on the NOA and approved the amendment on May 20, 2024, with no changes to the proposed amendment text.

Amendment 21, colloquially referred to as a “housekeeping” amendment, made edits to the CPS FMP as amendment document for clarity and content and made no changes to the management of CPS fisheries. In addition to minor editorial clarifications in the FMP, most of the proposed changes fall into the following categories: abbreviations and acronyms, hyperlinks, chub mackerel, headings and structure, and organizational terminology.

Additional background on this amendment can be found in the NOA. A complete list of the changes in amendment 21 to the CPS FMP is available on the Council website at https://www.pcouncil.org/actions/housekeeping-fmp-amendment/.

Authority: 16 U.S.C. 1801 et seq.

Dated: May 21, 2024.
Samuel D. Rauch, III,
Deputy Assistant Administrator for Regulatory Programs, National Marine Fisheries Service.

[FR Doc. 2024-11538 Filed 5-24-24; 8:45 am]

BILLING CODE 3510-22-P